DEPARTMENT OF THE INTERIOR

Geological Survey

[GX23GS00EMMA900]

Request for Comments on Helium Supply Risk

AGENCY: U.S. Geological Survey, Department of the Interior.

ACTION: Notice of opportunity for public comment.

SUMMARY: In light of recent geopolitical events and concurrent with the return of primary helium data-collection responsibility from the Bureau of Land Management (BLM) to the U.S. Geological Survey (USGS), the USGS is soliciting input from the public, including domestic helium users, that will aid the USGS in analyzing whether there is an increasing risk of helium-supply disruption; whether that risk stems from supply from countries that may be unwilling or unable to continue to supply the United States; and whether those risks pose a significant likelihood of increasing the Nation's import reliance or creating a concentration and risk of permanent or intermittent supply disruptions from a small number of international or domestic supply sources. The USGS is also soliciting input that will aid the USGS in analyzing whether potential disruptions to helium supply would jeopardize manufacturing or use of products vital to the defense, healthcare, aerospace, consumer electronics, and other industries.

DATES: Please submit written comments by March 16, 2023.

ADDRESSES: You may submit written comments online at http://www.regulations.gov by entering “DOI-2022-0012” in the Search bar and clicking “Search,” or by mail to Request for comments on Helium Supply Risk, MS-102, U.S. Geological Survey, 12201 Sunrise Valley Dr, Reston, VA 20192.

FOR FURTHER INFORMATION CONTACT: James Mosley, (703) 648-6312, jmosley@usgs.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Helium is important to the U.S. economy, with uses including magnetic resonance imaging, lifting gas, analytical and laboratory applications, electronics and semiconductor manufacturing, welding, engineering and scientific applications, and various minor applications.¹ At present, the United States is the world's leading helium producer and is a net exporter of helium. In 2021, fifteen plants in the United States extracted helium from natural gas and produced crude helium; two plants extracted helium from natural gas and produced Grade-A helium; and three plants purified helium from other sources to produce Grade-A helium. Helium production outside the United States was concentrated primarily in Qatar and Algeria. Both countries, as well as Canada, Russia, and Tanzania, have the technical capacity to increase their production in the future.

¹ U.S. Geological Survey, 2022, Mineral commodity summaries 2022: U.S. Geological Survey, 202 p., https://doi.org/10.3133/mcs2022.

Helium did not meet the criteria for inclusion on the 2022 final list of critical minerals (87 FR 10381). However, the USGS has noted that several factors make helium a commodity that warrants watching. The Helium Stewardship Act of 2013 directed the sale of the Federal Helium System by the Bureau of Land Management (BLM). The global shift from conventional natural gas toward shale gas, which lacks recoverable quantities of helium, has the potential to reduce the supply of helium. While the United States has significant domestic helium-production capacity, recent geopolitical events may impact foreign production capacity.

Given the factors described above related to helium, the USGS is soliciting public comments that will aid the USGS in analyzing:

(1) whether there is an increasing risk of supply disruption,

(2) whether that risk stems from supply from countries that may be unwilling or unable to continue to supply the United States,

(3) whether those risks pose a significant likelihood of increasing the Nation's import reliance or create a concentration and risk of permanent or intermittent supply disruptions from a small number of international or domestic supply sources,

(4) potential disruptions to helium supply due to foreign geopolitical uncertainty, military conflict, civil unrest, or anti-competitive behaviors, and

(5) whether such supply disruption would jeopardize manufacturing or use of products vital to the defense, healthcare, aerospace, consumer electronics, and other industries.

In conjunction with the sale of the Federal Helium System, the BLM is returning responsibility for collecting data and reporting helium production and consumption statistics to the USGS. Therefore, the USGS is also seeking comments that will aid the USGS in:

(1) conducting comprehensive analyses of the helium supply chain,

(2) determining domestic helium consumers and their primary uses for helium,

(3) identifying points of contact for helium producers, suppliers, and consumers who might collaborate with the USGS in data collection and survey development, and

(4) identifying additional types of information that might aid in future USGS data collection on helium.

Before including your address, phone number, email address, or other personally identifiable information (PII) in your comment, you should be aware that your entire comment, including your PII, may be made publicly available at any time. While you can ask us in your comment to withhold your PII from public review, we cannot guarantee that we will be able to do so. Please be aware that public comments submitted in response to this Federal Register notice will have no bearing on the closure of the federally managed helium reserve by the BLM as directed by the Helium Stewardship Act of 2013. Additionally, no person is required to respond to this request for comments. Consistent with 5 CFR 1320.3(h)(4), no person is asked to supply specific information pertaining to themselves other than information necessary for self-identification to receive USGS's full consideration of their comment(s). The U.S. Government will not pay for any comments or administrative costs incurred by those responding to this request for comments.

Authority: Energy Act of 2020, (div. Z, Pub. L. 116-260; 30 U.S.C. 1606).

James D. Applegate,
Director, U.S. Geological Survey.

[FR Doc. 2023-01852 Filed 1-27-23; 8:45 am]

BILLING CODE 4338-11-P